DEPARTMENT OF HOMELAND SECURITY

Coast Guard

33 CFR Part 117

[Docket No. USCG-2014-0857]

Drawbridge Operation Regulation; Illinois River, Joliet, IL

AGENCY: Coast Guard, DHS.

ACTION: Notice of deviation from drawbridge regulations.

SUMMARY: The Coast Guard has issued a temporary deviation from the operating schedule that governs the Jefferson Street Drawbridge across the Illinois River, mile 287.9, at Joliet, Illinois. The deviation is necessary to allow the Fall Color 5K run to cross the bridge. This deviation allows the bridge to remain in the closed-to-navigation position and not open to vessel traffic for one hour.

DATES: This deviation is effective from 9 a.m. to 10 a.m., October 5, 2014.

ADDRESSES: The docket for this deviation, (USCG-2014-0857) is available at http://www.regulations.gov. Type the docket number in the “SEARCH” box and click “SEARCH.” Click on Open Docket Folder on the line associated with this deviation. You may also visit the Docket Management Facility in Room W12-140 on the ground floor of the Department of Transportation, West Building, 1200 New Jersey Avenue SE., Washington, DC 20590, between 9 a.m. and 5 p.m., Monday through Friday, except Federal Holidays.

FOR FURTHER INFORMATION CONTACT: If you have questions on this temporary deviation, call or email Eric A. Washburn, Bridge Administrator, Western Rivers, Coast Guard; telephone 314-269-2378, email Eric.Washburn@uscg.mil. If you have questions on viewing the docket, call Cheryl F. Collins, Program Manager, Docket Operations, telephone 202-366-9826.

SUPPLEMENTARY INFORMATION: The Illinois Department of Transportation requested a temporary deviation for the Jefferson Street Drawbridge, across the Illinois River, mile 287.9, at Joliet, Illinois to remain in the closed-to-navigation position for 1 hour from 9 a.m. to 10 a.m. on October 5, 2014 in order to allow the Fall Color 5K run to cross the bridge.

The Jefferson Street Drawbridge currently operates in accordance with 33 CFR 117.393(c), which states the general requirement that the drawbridge shall open on signal except it need not open from 7:30 a.m. to 8:30 a.m. and from 4:15 p.m. to 5:15 p.m. Monday through Saturday.

There are no alternate routes for vessels transiting this section of the Illinois River.

The Jefferson Street Drawbridge, in the closed-to-navigation position, provides a vertical clearance of 16.6 feet above normal pool. Navigation on the waterway consists primarily of commercial tows and recreational watercraft and will not be significantly impacted. This temporary deviation has been coordinated with waterway users. No objections were received.

In accordance with 33 CFR 117.35(e), the drawbridge must return to its regular operating schedule immediately at the end of the effective period of this temporary deviation. This deviation from the operating regulations is authorized under 33 CFR 117.35.

Dated: September 19, 2014.
Eric A. Washburn,
Bridge Administrator, Western Rivers.

[FR Doc. 2014-23541 Filed 10-1-14; 8:45 am]

BILLING CODE 9110-04-P